DEPARTMENT OF THE INTERIOR

Bureau of Land Management

[NM-070-7122ES-839G; NMNM 104467]

Notice of Realty Action—Recreation and Public Purpose (R&PP) Act

AGENCY: Bureau of Land Management, Interior.

ACTION: Notice.

SUMMARY: The following described public land in San Juan County, New Mexico has been examined and found suitable for classification for lease/conveyance to Farmington Municipal School under the provisions of the R&PP Act, as amended (43 U.S.C. 869 et seq.). Farmington School proposes to use the land for an elementary, a middle school, and a satellite transportation yard.

T. 29 N., R. 12 W.,

Sec. 2, lot 7;

Sec. 10, lot 1;

Sec. 11, lot 4.

Containing 116.14 acres, more or less.

Comment Dates: On or before June 29, 2001. Interested parties may submit comments regarding the proposed classification/conveyance of the lands to the Bureau of Land Management at the following address. Any adverse comments will be reviewed by the Field Manager, Bureau of Land Management (BLM), 1235 La Plata Highway, Suite A, Farmington, NM 87401, who may sustain, vacate, or modify this realty action. In the absence of any adverse comments, this realty action becomes the final determination of the Department of the Interior and 60 days from date of publication.

FOR FURTHER INFORMATION CONTACT: Information related to this action, including the environmental assessment, is available for review at the Bureau of Land Management, Farmington Field Office, at the above address.

SUPPLEMENTARY INFORMATION: Upon publication of this notice in the Federal Register, the lands will be segregated from all other forms of appropriation under the public land laws, including the general mining laws, except for lease or conveyance under the R&PP Act and leasing under the mineral leasing laws. The segregative effect will terminate upon issuance of the patent to Farmington Municipal School, or two (2) years from the date of this publication, whichever occurs first.

The lease/patent, when issued, will be subject to the following terms, conditions and reservations:

1. Reservation to the United States of a right-of-way for ditches and canals in accordance with 43 U.S.C. 945.

2. Reservation to the United States of all minerals.

3. All valid existing rights, e.g. rights-of-way and leases of record.

4. Provisions that if the patentee or its successor attempts to transfer title to or control over the land to another or the land is devoted to a use other than that for which the land was conveyed, without the consent of the Secretary of the Interior or his delegate, or prohibits or restricts, directly or indirectly, or permits its agents, employees, contractors, or subcontractors, including without limitation, lessees, sublessees and permittees, to prohibit or restrict, directly or indirectly, the use of any part of the patented lands or any of the facilities whereon by any person because of such person's race, creed, color, or national origin, title shall revert to the United States.

The lands are not needed for Federal purposes. Lease/conveyance is consistent with current BLM land use planning and would be in the public interest.

Dated: April 30, 2001.
Joel E. Farrell,
Assistant Field Manager for Resources.

[FR Doc. 01-12154 Filed 5-14-01; 8:45 am]

BILLING CODE 4310-FB-P